DEPARTMENT OF TRANSPORTATION

Federal Aviation Administration

14 CFR Part 71

[Docket No. FAA-2010-0054; Airspace Docket No. 10-ASO-11]

Establishment of Class D Airspace, Modification of Class E Airspace; Columbus, GA

AGENCY: Federal Aviation Administration (FAA), DOT.

ACTION: Notice of proposed rulemaking (NPRM); withdrawal.

SUMMARY: This action withdraws the Notice of Proposed Rulemaking (NPRM) published in the Federal Register on March 11, 2010, which proposed to establish Class D airspace and modify existing Class E airspace at Columbus Metropolitan Airport, Columbus, GA. The NPRM is being withdrawn so that the revocation of the existing Class C airspace at Columbus Metropolitan Airport will coincide with the establishment of the Class D airspace in Columbus, GA.

DATES: Effective March 23, 2010. The Director of the Federal Register approves this incorporation by reference action under title 1, Code of Federal Regulations, part 51, subject to the annual revision of FAA order 7400.9 and publication of conforming amendments.

FOR FURTHER INFORMATION CONTACT: Melinda Giddens, Airspace Specialist, Operations Support Group, Eastern Service Center, Air Traffic Organization, Federal Aviation Administration, P.O. Box 20636, Atlanta, Georgia 30320; telephone (404) 305-5610.

SUPPLEMENTARY INFORMATION:

History

On Thursday, March 11, 2010, a Notice of Proposed Rulemaking was published in the Federal Register to establish Class D airspace and modify existing Class E airspace at Columbus, GA. Due to a decrease in air traffic volume at Columbus Metropolitan Airport a less restrictive Class D airspace would be established with specific dates and times established in advance by a Notice to Airmen. The existing Class E surface area would be modified to be coincident with the newly established Class D airspace.

In consideration of the need for the effective dates to coincide for the revocation of Class C airspace and the establishment of Class D airspace at Columbus Metropolitan Airport, Columbus, GA, action is being taken to withdraw the aforementioned legislative mandate. Therefore, action to establish Class D airspace in Columbus, GA, is premature and unnecessary at this time.

Lists of Subjects in 14 CFR Part 71

Airspace, Incorporation by reference, Navigation (air).

The Withdrawal

Accordingly, pursuant to the authority delegated to me, the Notice of Proposed Rulemaking, Airspace Docket No. 10-ASO-11, as published in the Federal Register on March 11, 2010 (75 FR 11475), is hereby withdrawn.

Authority: 49 U.S.C. 106(g); 40103, 40113, 40120; E.O. 10854, 24 FR 9565, 3 CFR, 1959-1963 Comp., p. 389.

Issued in College Park, Georgia, on March 12, 2010.
Michael Vermuth,
Acting Manager, Operations Support Group, Eastern Service Center, Air Traffic Organization.

[FR Doc. 2010-6278 Filed 3-22-10; 8:45 am]

BILLING CODE 4910-13-P